SMALL BUSINESS ADMINISTRATION

[Disaster Declaration #20258; MARYLAND Disaster Number MD-20001 Declaration of Economic Injury]

Administrative Declaration of an Economic Injury Disaster for the State of MARYLAND; Correction

AGENCY: Small Business Administration.

ACTION: Correction.

SUMMARY: This is a correction to the Administrative Economic Injury Disaster Loan (EIDL) declaration for the State of MARYLAND dated 03/29/2024. This catastrophe has far-ranging effects for businesses throughout the state, surrounding areas and are of national scale and significance.

Incident: Francis Scott Key Bridge Collapse.

Incident Period: 03/26/2024 and continuing.

DATES: Issued on 05/03/2024.

Economic Injury (EIDL) Loan Application Deadline Date: 12/30/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the Administrator's EIDL disaster declaration for the State of Maryland, dated 03/29/2024, published at 89 FR 23616, is hereby corrected to include King George, Northumberland, Prince William, Stafford, and Westmoreland Counties in Virginia as contiguous counties. Applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Allegany, Anne Arundel, Baltimore, Baltimore, Calvert, Caroline, Carroll, Cecil, Charles, Dorchester, Frederick, Garrett, Harford, Howard, Kent, Montgomery, Prince George's, Queen Anne's, Somerset, St. Mary's, Talbot, Washington, Wicomico, Worcester.

Contiguous Counties:

Delaware: Kent, New Castle, Sussex

District of Columbia: District Of Columbia

Pennsylvania: Adams, Bedford, Chester, Fayette, Franklin, Fulton, Lancaster, Somerset, York.

Virginia: Accomack, Alexandria, Arlington, Fairfax County, King George, Loudoun, Northumberland, Prince William, Stafford, Westmoreland.

West Virginia: Berkeley, Grant, Hampshire, Jefferson, Mineral, Morgan, Preston.

The Interest Rates are:

| Percent
Business and Small Agricultural Cooperatives without Credit Available Elsewhere | 4.000
Non-Profit Organizations without Credit Available Elsewhere | 3.250

The number assigned to this disaster for economic injury is 202580.

The States which received an EIDL Declaration are Delaware, District of Columbia, Maryland, Pennsylvania, Virginia, West Virginia.

(Catalog of Federal Domestic Assistance Number 59008)

Isabella Guzman,
Administrator.

[FR Doc. 2024-10087 Filed 5-8-24; 8:45 am]

BILLING CODE 8026-09-P